NATIONAL FOUNDATION ON THE ARTS AND THE HUMANITIES

National Endowment for the Arts

Arts Advisory Panel Meetings

AGENCY: National Endowment for the Arts, National Foundation on the Arts and the Humanities.

ACTION: Notice of meetings.

SUMMARY: Pursuant to the Federal Advisory Committee Act, as amended, notice is hereby given that 43 meetings of the Arts Advisory Panel to the National Council on the Arts will be held by teleconference or videoconference.

DATES: See the SUPPLEMENTARY INFORMATION section for individual meeting times and dates. All meetings are Eastern time and ending times are approximate.

ADDRESSES: National Endowment for the Arts, Constitution Center, 400 7th St. SW, Washington, DC 20506.

FOR FURTHER INFORMATION CONTACT: Further information with reference to these meetings can be obtained from David Travis, Office of Guidelines & Panel Operations, National Endowment for the Arts, Washington, DC 20506; travisd@arts.gov, or call 202-682-5001.

SUPPLEMENTARY INFORMATION: The closed portions of meetings are for the purpose of Panel review, discussion, evaluation, and recommendations on financial assistance under the National Foundation on the Arts and the Humanities Act of 1965, as amended, including information given in confidence to the agency. In accordance with the determination of the Chair of March 11, 2022, these sessions will be closed to the public pursuant to 5 U.S.C. 10.

The Upcoming Meetings Are

Music Theater (review of applications): This meeting will be closed.

Date and time: November 4, 2024; 1 p.m. to 3 p.m.

Music Theater (review of applications): This meeting will be closed.

Date and time: November 4, 2024; 4 p.m. to 6 p.m.

Media Arts (review of applications): This meeting will be closed.

Date and time: November 5, 2024; 11:30 a.m. to 1:30 p.m.

Media Arts (review of applications): This meeting will be closed.

Date and time: November 5, 2024; 2:30 p.m. to 4:30 p.m.

Media Arts (review of applications): This meeting will be closed.

Date and time: November 6, 2024; 11:30 a.m. to 1:30 p.m.

Media Arts (review of applications): This meeting will be closed.

Date and time: November 6, 2024; 2:30 p.m. to 4:30 p.m.

Theater (review of applications): This meeting will be closed.

Date and time: November 7, 2024; 1 p.m. to 3 p.m.

Media Arts (review of applications): This meeting will be closed.

Date and time: November 7, 2024; 2:30 p.m. to 4:30 p.m.

Theater (review of applications): This meeting will be closed.

Date and time: November 7, 2024; 4 p.m. to 6 p.m.

Opera (review of applications): This meeting will be closed.

Date and time: November 8, 2024; 12 p.m. to 2 p.m.

Opera (review of applications): This meeting will be closed.

Date and time: November 8, 2024; 3 p.m. to 5 p.m.

Music (review of applications): This meeting will be closed.

Date and time: November 12, 2024; 12 p.m. to 2 p.m.

Music (review of applications): This meeting will be closed.

Date and time: November 12, 2024; 3 p.m. to 5 p.m.

Music (review of applications): This meeting will be closed.

Date and time: November 13, 2024; 12 p.m. to 2 p.m.

Music (review of applications): This meeting will be closed.

Date and time: November 13, 2024; 3 p.m. to 5 p.m.

Dance (review of applications): This meeting will be closed.

Date and time: November 14, 2024; 12 p.m. to 2 p.m.

Dance (review of applications): This meeting will be closed.

Date and time: November 14, 2024; 3 p.m. to 5 p.m.

Music (review of applications): This meeting will be closed.

Date and time: November 15, 2024; 12 p.m. to 2 p.m.

Music (review of applications): This meeting will be closed.

Date and time: November 15, 2024; 3 p.m. to 5 p.m.

Visual Arts (review of applications): This meeting will be closed.

Date and time: November 18, 2024; 11:30 a.m. to 1:30 p.m.

Music (review of applications): This meeting will be closed.

Date and time: November 18, 2024; 12 p.m. to 2 p.m.

Music (review of applications): This meeting will be closed.

Date and time: November 18, 2024; 3 p.m. to 5 p.m.

Visual Arts (review of applications): This meeting will be closed.

Date and time: November 19, 2024; 11:30 a.m. to 1:30 p.m.

Dance (review of applications): This meeting will be closed.

Date and time: November 19, 2024; 12 p.m. to 2 p.m.

Presenting and Multidisciplinary Works (review of applications): This meeting will be closed.

Date and time: November 19, 2024; 12 p.m. to 2 p.m.

Arts Education (review of applications): This meeting will be closed.

Date and time: November 19, 2024; 1:30 p.m. to 3:30 p.m.

Visual Arts (review of applications): This meeting will be closed.

Date and time: November 19, 2024; 2:30 p.m. to 4:30 p.m.

Dance (review of applications): This meeting will be closed.

Date and time: November 19, 2024; 3 p.m. to 5 p.m.

Presenting and Multidisciplinary Works (review of applications): This meeting will be closed.

Date and time: November 19, 2024; 3 p.m. to 5 p.m.

Visual Arts (review of applications): This meeting will be closed.

Date and time: November 20, 2024; 11:30 a.m. to 1:30 p.m.

Presenting and Multidisciplinary Works (review of applications): This meeting will be closed.

Date and time: November 20, 2024; 12 p.m. to 2 p.m.

Theater (review of applications): This meeting will be closed.

Date and time: November 20, 2024; 1 p.m. to 3 p.m.

Arts Education (review of applications): This meeting will be closed.

Date and time: November 20, 2024; 1:30 p.m. to 3:30 p.m.

Visual Arts (review of applications): This meeting will be closed.

Date and time: November 20, 2024; 2:30 p.m. to 4:30 p.m.

Presenting and Multidisciplinary Works (review of applications): This meeting will be closed.

Date and time: November 20, 2024; 3 p.m. to 5 p.m.

Theater (review of applications): This meeting will be closed.

Date and time: November 20, 2024; 4 p.m. to 6 p.m.

Dance (review of applications): This meeting will be closed.

Date and time: November 21, 2024; 12 p.m. to 2 p.m.

Music (review of applications): This meeting will be closed.

Date and time: November 21, 2024; 12 p.m. to 2 p.m.

Arts Education (review of applications): This meeting will be closed.

Date and time: November 21, 2024; 1:30 p.m. to 3:30 p.m.

Visual Arts (review of applications): This meeting will be closed.

Date and time: November 21, 2024; 2:30 p.m. to 4:30 p.m.

Dance (review of applications): This meeting will be closed.

Date and time: November 21, 2024; 3 p.m. to 5 p.m.

Presenting and Multidisciplinary Works (review of applications): This meeting will be closed.

Date and time: November 22, 2024; 12 p.m. to 2 p.m.

Presenting and Multidisciplinary Works (review of applications): This meeting will be closed.

Date and time: November 22, 2024; 3 p.m. to 5 p.m.

Dated: October 2, 2024.
David Travis,
Specialist, National Endowment for the Arts.

[FR Doc. 2024-23097 Filed 10-4-24; 8:45 am]

BILLING CODE 7537-01-P